DEPARTMENT OF DEFENSE

Department of the Navy

Notice of Intent To Grant Partially Exclusive Patent License; BOLD Industries, Inc.

AGENCY: Department of the Navy, DoD.

ACTION: Notice.

SUMMARY: The Department of the Navy hereby gives notice of its intent to grant to BOLD Industries, Inc. a revocable, nonassignable, partially exclusive license to practice in the United States, the Government-owned inventions described in U.S. Patent Application No. 20110024405 filed on August 18, 2009: Method of Breaching a Barrier.//U.S. Patent Application No. 20110024403 filed on July 28, 2009: Portable Cutting Device for Breaching a Barrier.//U.S. Patent Application No. 20110036999 filed on August 28, 2009: Countermeasure Method for a Mobile Tracking Device.//U.S. Patent Application No. 20110036998 filed on August 14, 2009: Countermeasure Device for a Mobile Tracking Device.//U.S. Patent Application No. 20110113949 filed on May 12, 2010: Modulation Device for a Mobile Tracking Device.//U.S. Patent Application Serial No. 12/778,643 filed on May 12, 2010: High Powered Laser System.//U.S. Patent Application Serial No. 12/778,892 filed on May 12, 2010: Scene Illuminator.

DATES: Anyone wishing to object to the grant of this license must file written objections along with supporting evidence, if any, not later than November 10, 2011.

ADDRESSES: Written objections are to be filed with the Naval Surface Warfare Center, Crane Div, Code OOL, Bldg 2, 300 Highway 361, Crane, IN 47522-5001.

FOR FURTHER INFORMATION CONTACT: Mr. Christopher Monsey, Naval Surface Warfare Center, Crane Div, Code OOL, Bldg 2, 300 Highway 361, Crane, IN 47522-5001, telephone 812-854-4100.

Authority: 35 U.S.C. 207, 37 CFR Part 404.

Dated: October 19, 2011.
L.M. Senay,
Lieutenant, Office of the Judge Advocate, U.S. Navy, Alternate Federal Register Liaison Officer.

[FR Doc. 2011-27661 Filed 10-25-11; 8:45 am]

BILLING CODE 3810-FF-P